DEPARTMENT OF THE INTERIOR

National Park Service

Wrangell-St. Elias National Park Subsistence Resource Commission Meeting

AGENCY: National Park Service, Interior.

ACTION: Announcement of Wrangell-St. Elias National Park Subsistence Resource Commission (SRC) meeting.

SUMMARY: Notice is hereby given in accordance with the Federal Advisory Committee Act that a meeting of the Wrangell-St. Elias National Park Subsistence Resource Commissions will be held on Wednesday, September 25, 2002, and Thursday, September 26, 2002, at the East Eddy's and Young's Motel in Tok, Alaska. The meeting will be open to the public. Any person may file with the Commission a written statement concerning the matters to be discussed. The purpose of the meeting will be to continue work on currently authorized and proposed National Park Service subsistence hunting program recommendations including other related subsistence management issues. The following agenda items will be discussed:

1. Call to order (SRC Chair).

2. SRC Roll Call and Confirmation of Quorum.

3. SRC Chair and Superintendent's of Welcome and Introductions.

4. Review and Adopt Agenda.

5. Review and adopt minutes from February 19-20, 2002, meeting.

6. Review Commission Purpose.

7. Status of Membership.

8. Superintendent's Report.

9. Wrangell-St. Elias NP&P Staff Report.

10. Federal Subsistence Wildlife and Fisheries Management Report.

11. Public and Agency Comments.

12. Work Session (comment on issues, develop new recommendations, prepare letters).

13. Set time and place of next SRC meeting.

Adjournment

DATES: The meeting will begin at 9 a.m. on Wednesday September 25, 2002, and conclude at approximately 5 p.m. The meeting will reconvene at 9 a.m. on Thursday, September 26, 2002, and adjourn at approximately 5 p.m. The meeting will adjourn earlier if the agenda items are completed.

Location: The meeting will be held at the East Eddy's and Young's Motel Banquet Room in Tok, AK, telephone (907) 883-4412.

Notice of this meeting will be published in local newspapers and announced on local radio stations prior to the meeting dates. Locations and dates may need to be changed based on weather or local circumstances.

FOR FURTHER INFORMATION CONTACT: Persons who want further information concerning the meeting may contact Superintendent Gary Candelaria or Devi Sharp, Chief of Natural Resources at Wrangell-St. Elias National Park and Preserve, P.O. Box 439, Copper Center, AK 99573, telephone (907) 822-5234 or (907) 822-5234.

SUPPLEMENTARY INFORMATION: The Subsistence Resource Commission is authorized under Title VIII, Section 808, of the Alaska National Interest Lands Conservation Act, Pub. L. 96-487, and operates in accordance with the provisions of the Federal Advisory Committees Act.

Draft minutes of the meeting will be available for public inspection approximately six weeks after the meeting from: Superintendent, Wrangell-St. Elias National Park, P.O. Box 439, Copper Center, Alaska 99573, telephone (907) 822-5234 or (907) 822-52345.

Robert L. Arnberger,
Regional Director, National Park Service, Alaska Region.

[FR Doc. 02-17830 Filed 7-15-02; 8:45 am]

BILLING CODE 4310-70-M